DEPARTMENT OF COMMERCE

National Oceanic and Atmospheric Administration

50 CFR Part 660

[I.D. 101905C]

Fisheries off the West Coast States and in the Western Pacific; Pacific Coast Groundfish Fishery; Notice of Intent to Prepare an Environmental Impact Statement or Environmental Assessment for Fishing Conducted Under the Pacific Coast Groundfish Fishery Management Plan

AGENCY: National Marine Fisheries Service (NMFS), National Oceanic and Atmospheric Administration (NOAA), Commerce.

ACTION: Notice of intent to prepare an environmental impact statement (EIS) or environmental assessment (EA); announcement of public scoping period; request for written comments.

SUMMARY: NMFS, in cooperation with the Pacific Fishery Management Council (Council), announces its intention to prepare an EIS or an EA in accordance with the National Environmental Policy Act (NEPA) to assess the impacts of the 2007-2008 Pacific Coast groundfish fishery specifications and management measures on the human, biological, and physical environment.

DATES: Public scoping opportunities for the 2007-2008 Pacific Coast groundfish fishery specifications and management measures EIS (or EA) will occur during meetings of the Council and its advisory bodies starting with the October 31-November 4, 2005, Council meeting and continuing through the June 11-16, 2006, when the Council is scheduled to determine their final preferred alternative (see SUPPLEMENTARY INFORMATION). However, only written comments provided to the Council office through November 25, 2005, will be considered in a scoping document summarizing the public's issues and alternatives raised by the public, which may be evaluated in the EIS (or EA).

ADDRESSES: You may submit comments on suggested alternatives and potential impacts identified by I.D. 101905 by any of the following methods:

• E-mail: (pfmc.comments@noaa.gov and write “2007-2008 groundfish specifications EIS” in subject line).

• Federal eRulemaking Portal: http://www.regulations.gov.

• Fax: 503-820-2299.

• Mail: Dr. Donald McIsaac, Executive Director, Pacific Fishery Management Council, 7700 NE Ambassador Place, Suite 200, Portland, OR 97220-1384.

The scoping document will be available on the Council's website (www.pcouncil.org)or by written request from the Pacific Fishery Management Council, 7700 NE Ambassador Place, Suite 200, Portland, OR 97220-1384.

FOR FURTHER INFORMATION CONTACT: Mr. John DeVore, Groundfish Fishery Management Coordinator; phone: 503-820-2280 and e-mail: John.DeVore@noaa.gov or Kathe Hawe, NMFS Northwest Region NEPA Coordinator; phone: 206-526-6161 and email: Kathe.Hawe@noaa.gov.

SUPPLEMENTARY INFORMATION:

Background and Need for Agency Action

There are more than 80 species managed under the Pacific Coast Groundfish Fishery Management Plan (groundfish FMP), eight of which have been declared overfished. The groundfish stocks support an array of commercial, recreational, and Indian tribal fishing interests in state and Federal waters off the coasts of Washington, Oregon, and California. In addition, groundfish are also harvested incidentally in non-groundfish fisheries, most notably, the trawl fisheries for pink shrimp, ridgeback prawns, California halibut, and sea cucumber.

The proposed action is needed to establish commercial and recreational harvests levels in 2007-2008 that will ensure groundfish stocks are maintained at, or restored to, sizes and structures that will produce the highest net benefit to the nation, while balancing environmental and social values.

The Proposed Action

The proposed action is to implement management measures consistent with the requirements of the Magnuson-Stevens Fishery Conservation and Management Act (Magnuson-Stevens Act) that constrain total fishing mortality during 2007-2008 within limits that maintain fish stocks at, or rebuild them to, a level capable of producing maximum sustained yield, or to a stock size less than this if such stock size results in long-term net benefit to the nation.

These fishing mortality limits are harvest specifications that include acceptable biological catches (ABCs) and optimum yields (OYs) for groundfish species or species groups in need of particular protection; OYs may be represented by harvest guidelines or quotas for species that need individual management. Separate sets of ABCs and OYs will be specified for 2007 and 2008 as part of the multi-year management cycle for groundfish. The allocation of commercial OYs between the open access and limited entry segments of the fishery is also part of the proposed action.

The FMP, as amended by Amendment 17, requires that the groundfish specifications be evaluated and revised as necessary every two years, with separate ABCs and OYs established for each of the two years in the biennial period. Management measures designed to achieve the OYs will be established for each year and, as in the past, may vary from period to period within any one year. These specifications and management measures will be published in the Federal Register of the first fishing year in the biennium (2007). The Magnuson-Stevens Act and the groundfish FMP also require that NMFS implement actions to prevent overfishing and to rebuild overfished stocks. These specifications include fish caught in state ocean waters (zero to three nautical miles (nm) offshore) as well as fish caught in the U.S. exclusive economic zone (3 to 200 nm offshore).

Alternatives

NEPA requires that agencies evaluate reasonable alternatives to the proposed action in an EIS. The purpose and need for agency action determines the range of reasonable alternatives. A preliminary set of alternatives will be developed during the October 31-November 4, 2005, Council meeting. Alternatives will be structured around a range of ABCs/OYs for assessed groundfish species. This range of ABCs/OYs is based on stock assessments, including new assessments for 23 of the groundfish species managed under the FMP.

For some species, ABC/OY ranges that would be used to develop alternatives may be based on consultations by the Council with state and federal agencies, Indian tribes, and the affected public on the allocation of harvest opportunity between sectors. Allocation decisions can affect OYs because different sectors may catch fish of different ages, allowing different sustainable harvest levels.

The Council will be asked to adopt a range of ABCs/OYs, and preferred OYs, if possible, during the October 31-November 4, 2005, Council meeting. A range of alternative management measures will also be identified that will constrain total harvest mortality (across all fisheries intercepting groundfish) to within the preferred OYs. If a preferred OY is not decided for a given stock during the October 31-November 4, 2005, Council meeting, then the range of OYs for that stock will be analyzed in the NEPA document coincident with the analysis of management measure alternatives. Restrictive management measures, intended to rebuild overfished species, have been adopted and implemented over the past several years for most commercial and recreational fishing sectors. Management measures intended to control the rate at which different groundfish species or species groups are taken in the fisheries include trip limits, bag limits, size limits, time/area closures, and gear restrictions. Large area closures, called Groundfish Conservation Areas or Rockfish Conservation Areas, intended to reduce bycatch of overfished species, were first implemented in late 2002. These closed areas will continue to be a key feature of alternatives considered in the EIS to manage groundfish fisheries in 2007-2008. A second important type of measure used to manage groundfish is the cumulative landing limit. These restrict the total weight of fish by species or species group that any one vessel may land during the limit period, which is normally two months. Different cumulative landing limits are established for areas north and south of 40°10′ N lat. (near Cape Mendocino, California) and for limited entry trawl, limited entry fixed gear, and open access fishery participants.

Preliminary Identification of Environmental Issues

A principal objective of the scoping and public input process is to identify potentially significant impacts to the human environment that should be analyzed in depth in the EIS. The EIS evaluates a range of reasonable alternatives (described above) to determine their likely impacts on the human environment and identify significant impacts. Council and NMFS staff will conduct initial screening to identify the potentially significant impacts of the range of alternatives that will be developed. Issues considered in the EIS for 2005-2006 harvest specifications are likely to be relevant to the EIS for 2007-2008 harvest specifications. (These include the effects of fishing on essential fish habitat, protected species listed under the Endangered Species Act and Marine Mammal Protection Act, the sustainability of overfished and non-overfished groundfish stocks, and socioeconomic impacts to individuals and communities involved in the use of groundfish resources).

Public Scoping Process

Public scoping will primarily occur early in the Council's decision-making process. All decisions during the Council process benefit from written and oral public comments delivered prior to or during the Council meeting. These public comments are considered integral to scoping for developing this EIS (or EA). A preliminary range of 2007 and 2008 harvest specifications and management measures will be decided at the October 31-November 4, 2005, Council meeting in San Diego, CA at the Hyatt Regency Islandia, 1441 Quivira Road, San Diego, CA 92109 (858-792-5200). The Council is expected to refine the range of management measures at their March 5-10, 2006, meeting in Seattle, WA at the Seattle Marriott Hotel-Sea Tac, 3201 S 176th Street, 98188-4094; telephone 206-241-2000 or 800-314-0925. The Council is expected to decide final 2007 and 2008 harvest specifications, further refine the range of management measures, or decide their preferred alternative at their April 2-7, 2006 meeting in Sacramento, California at the Double Tree Hotel, 2001 Point West Way, 95815-4702; telephone 916-929-8855 or 800-222-8733. The Council is expected to decide or refine their preferred alternative at their June 11-16, 2006, meeting in Foster City, California at the Crowne Plaza Mid Peninsula, 1221 Chess Drive, 94404; telephone 800-227-6963 or 650-570-5700. Public comment may be made under the agenda items when the Council will consider these proposed actions. The agendas for these meetings will be available from the Council website or by request from the Council office in advance of the meeting (see ADDRESSES). Written comments on the scope of issues and alternatives may also be submitted as described under ADDRESSES.

NMFS invites comments and suggestions on the scope of the analysis to be included in the draft EIS (DEIS) or draft EA (DEA) (both hereafter referred to as the NEPA document). The scope includes the range of alternatives to be considered and potentially significant impacts to the human environment that should be evaluated in the NEPA document. In addition, NMFS is notifying the public that, in conjunction with the Council, it is beginning a full environmental analysis and decision-making process for this proposal, so interested or affected people may know how they can participate in the environmental analysis and contribute to the final decision.

A NEPA document will be prepared for comment later on in the process. The comment period on the NEPA document will be 45 days from the date the Environmental Protection Agency's notice of availability appears in the Federal Register, if this is an EIS. It is very important that those interested in this proposed action participate at that time. To be the most helpful, comments on the NEPA document should be as specific as possible and may address the adequacy of the statement or merits of the alternatives discussed. It is also helpful if comments refer to specific pages or chapters of the NEPA document. Comments may also address the adequacy of the NEPA document or the merits of the alternatives formulated and discussed in the NEPA document. (Reviewers may wish to refer to the Council on Environmental Quality Regulations for implementing the procedural provisions of NEPA CFR 1503.3 in addressing these points.) Comments received, including the names and addresses of those who comment, will be considered part of the public record on this proposal and will be available for public inspection.

Special Accommodations

These meetings are accessible to people with physical disabilities. Requests for sign language interpretation or other auxiliary aids should be directed to Carolyn Porter 503-820-2280 (voice) or 503-820-2299 (fax), at least 5 days prior to the scheduled meeting date.

Authority: 16 U.S.C. 1801 et seq.

Dated: October 20, 2005.
Alan D. Risenhoover,
Acting Director, Office of Sustainable Fisheries, National Marine Fisheries Service.

[FR Doc. 05-21301 Filed 10-24-05; 8:45 am]

BILLING CODE 3510-22-S